FEDERAL ELECTION COMMISSION

Sunshine Act Meeting

AGENCY: Federal Election Commission.

Special Executive Session

Date & Time: Wednesday, October 18, 2000, 10:00 a.m.

Place: 999 E Street, N.W., Washington, D.C.

Status: This meeting will be closed to the public pursuant to 11 CFR 2.4(b)(7).

Items to be discussed:

Matters concerning participation in civil actions or proceedings or arbitration.

Person to Contact for Information: Mr. Ron Harris, Press Officer, Telephone: (202) 694-1220.

Mary W. Dove,
Acting Secretary.

[FR Doc. 00-27187 Filed 10-18-00; 2:52 pm]

BILLING CODE 6715-01-M